DEPARTMENT OF HEALTH AND HUMAN SERVICES

National Institutes of Health

National Institutes of Environmental Health Sciences; Amended Notice of Meeting

Notice is hereby given of a change in the meeting of the National Institute of Environmental Health Sciences Special Emphasis Panel, November 12, 2003, 3 p.m. to November 12, 2003, 4 p.m., NIEHS/National Institutes of Health, Building 4401, East Campus, 79 T.W. Alexander Drive, 122, Research Triangle Park, NC, 27709 which was published in the Federal Register on November 22, 2003, 68 FR 60404.

The telephone conference meeting will be held November 20, 2003 at 3 p.m. The meeting is closed to the public.

Dated: October 31, 2003.
LaVerne Y. Stringfield,
Director, Office of Federal Advisory Committee Policy.

[FR Doc. 03-28037 Filed 11-6-03; 8:45 am]

BILLING CODE 4140-01-M